DEPARTMENT OF HEALTH AND HUMAN SERVICES

Health Resources and Services Administration

Agency Information Collection Activities: Submission to OMB for Review and Approval; Public Comment; Biographical Sketch Form for Use With Applications to the Maternal and Child Health Bureau Research Grants OMB No. 0906—Reinstatement

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than September 18, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION:

Information Collection Request Title: Forms for Use with Applications to the Maternal and Child Health Bureau Research Grants, OMB 0906—Reinstatement

Abstract: HRSA is requesting reinstatement of the Biographical Sketch Form for use with applications to the Maternal and Child Health Bureau Research Grants (Biographical Sketch) for HRSA's SF424 Research & Related application package. These grants are funded by a number of authorities such as 42 U.S.C. 701(a)(2) (title V, 501(a)(2) of the Social Security Act) and by 42 U.S.C. 280i-1(f) (title III, section 399BB(f) of the Public Health Service Act. The purpose of these grants is to advance the health and well-being of Maternal and Child Health populations and children and adolescents with autism spectrum disorder by supporting innovative, applied, and translational intervention research studies on critical issues affecting these populations.

A 60-day notice published in the Federal Register on March 1, 2023, vol. 88, No. 40; pp. 12953-54. There were no public comments.

Need and Proposed Use of the Information: HRSA plans to use the Biographical Sketch as a required element of the SF424 Research & Related application package. The applicants use the Biographical Sketch form to summarize the qualifications of each key personnel on their proposed research team, including education/training, positions and honors, contributions to science, and related experience. The grant reviewers will use this information to assess the capabilities of the research team to carry out the planned research project. The Biographical Sketch form also collects demographic data for the Principal Investigator and key program staff. HRSA is considering several changes for the Biographical Sketch:

• Clarifying instructions: Provides the applicant more information on what should and should not be included on the biographical sketch.

• Removal of Section D: Section D: Related Experience has been removed.

• Removal of Section E: Section E: Additional Information: Research Support and/or Scholastic Performance Awards has been removed.

• “Some Other Race” Category: At the request of our applicants, this category was added.

Likely Respondents: Respondents are applicants to HRSA's Maternal and Child Health Bureau research programs.

Burden Statement: Burden includes the time expended by persons to generate, maintain, retain, disclose, or provide the information requested. This includes the time needed to review instructions; to develop, acquire, install, and utilize technology and systems for the purpose of collecting, validating and verifying information, processing and maintaining information, disclosing and providing information. It also accounts for time to train personnel, respond to a collection of information, search data sources; complete and review the collection of information, and transmit or otherwise disclose the information. The total annual burden hours estimated for this ICR are summarized in the table below.

Total Estimated Annualized Burden Hours:

Form name | Number of respondents | Number of responses per respondent | Total responses | Average burden per response (in hours) | Total burden hours
Biographical Sketch Form | 200 | 5 | 1,000 | 1.75 | 1,750
Total | 200 | 5 | 1,000 | 1.75 | 1,750

Amy P. McNulty,
Deputy Director, Executive Secretariat.

[FR Doc. 2023-17636 Filed 8-16-23; 8:45 am]

BILLING CODE 4165-15-P